NATIONAL AERONAUTICS AND SPACE ADMINISTRATION

[Notice: (16-081)]

NASA Advisory Council; Meeting

AGENCY: National Aeronautics and Space Administration.

ACTION: Notice of meeting.

SUMMARY: In accordance with the Federal Advisory Committee Act, as amended, the National Aeronautics and Space Administration (NASA) announces a meeting of the NASA Advisory Council.

DATES: Wednesday, November 30, 2016, 10:30 a.m.-6:30 p.m., Local Time.

ADDRESSES: The NASA AERO Institute, 38256 Sierra Highway, Palmdale, CA 93550

FOR FURTHER INFORMATION CONTACT: Ms. Marla King, NAC Administrative Officer, NASA Headquarters, Washington, DC 20546, (202) 358-1148.

SUPPLEMENTARY INFORMATION: This meeting will be open to the public up to the capacity of the meeting room. This meeting is also available telephonically and by WebEx. You must use a touch-tone phone to participate in this meeting. Any interested person may dial the toll-free number 1-888-831-6084 or toll number 1-312-470-7172, Passcode: 4690949 followed by the # sign. If dialing in, please “mute” your phone. To join via WebEx, the link is https://nasa.webex.com/ the meeting number is 998 278 065 and the password is NACNOV16! (case sensitive). The agenda for the meeting will include reports from the following:

—Aeronautics Committee

—Human Exploration and Operations Committee

—Institutional Committee

—Science Committee

—Technology, Innovation and Engineering Committee

—Ad Hoc Task Force on STEM Education

Attendees will be required to sign a register. It is imperative that the meeting be held on this date to accommodate the scheduling priorities of the key participants.

Carol J. Hamilton,
Acting Advisory Committee Management Officer, National Aeronautics and Space Administration.

[FR Doc. 2016-27560 Filed 11-16-16; 8:45 am]

BILLING CODE 7510-13-P